Proclamation 9847 of March 1, 2019

Women's History Month, 2019

By the President of the United States of America

A Proclamation

During Women's History Month, we celebrate the countless women whose courage and resolve have contributed to the character and success of our Nation and the entire world. The equal opportunity of women in every facet of daily life is an essential feature of a free and prosperous society. This month, we honor women who have fought for equality and against the status quo, and who have broken the bonds of discrimination, partiality, and injustice for the benefit of all. These women created a legacy that continues to inspire generations of women to live with confidence, to have a positive impact on their communities, and to improve our Nation every single day.

Throughout our history, women have dedicated their lives to achieving equal rights for all Americans. They envisioned a society where women could pursue a formal education, start a business, serve in the military, or run for elected office. The example of each of these women motivates successive generations to aspire to greatness and to stand tall in the face of adversity. We remember all the American women, past and present, who have inspired and empowered today's women to advocate for their beliefs and pursue their dreams without hesitation.

Catherine Brewer, who in 1840 became the first woman to earn a bachelor's degree, and Dr. Elizabeth Blackwell, who graduated from medical school to become America's first recognized female physician, are in the pantheon of great American women. Both pursued their passion to learn and to achieve advanced degrees in an unprecedented way. Their achievement marked the beginning of our society's move toward equality among men and women in education. They would be proud to know that, today, female students constitute the majority of undergraduates in our colleges and universities.

Women also have a rich history of civilian and military leadership, service, and sacrifice. The Women Airforce Service Pilots (WASP), for example, were remarkable pioneers in military aviation. Founded by Nancy Love and Jacqueline Cochran in 1942, WASP grew to a fleet of 1,102 women pilots who flew every type of World War II military aircraft for non-combat missions domestically. These women were awarded the Congressional Gold Medal for their service, and they paved the way for women pilots like Captain Rosemary Mariner, the Navy's first female fighter pilot and first woman to command a naval aviation squadron. Over the course of her 24 years of honorable service, Captain Mariner broke many barriers for women in the military. When she passed away on January 24, 2019, the Navy conducted an all-female flyover in her honor, a first in the history of the Armed Forces and a fitting honor for a woman of her stature.

Leaders of our Nation also stand on the shoulders of women like Jeannette Rankin, who became the first woman to hold Federal office in 1916. She predicted: “I may be the first woman member of Congress, but I won't be the last.” This year, a century after the Congress passed the 19th Amendment guaranteeing women the right to vote, more women are serving in the Congress than at any time in our history.

My Administration continues to empower women by creating unprecedented opportunities for them. The United States economy is booming like never before. An all-time record number of women are employed, and, just last year, women filled 58 percent of new jobs. Our economic agenda, including the enactment of the Tax Cuts and Jobs Act and the elimination of unnecessary and burdensome regulations, has driven women's unemployment to the lowest level in 65 years. My Administration fought to provide tax relief to parents by doubling the child tax credit and preserving the child and dependent care credit. To help women thrive in the labor force and provide for their families, we developed a tax credit for employers who offer paid family and medical leave, and I have called on the Congress to pass a nationwide paid family leave program.

Prioritizing the economic empowerment of women has also helped to boost our Nation's economy and security. My Administration is committed to working with States to reform occupational licensing laws, which disproportionately affect women. States and licensing boards can and must do more to eliminate unnecessary barriers to career opportunities and improve license portability to facilitate career continuity. Promoting women's economic empowerment abroad enables developing countries to increase their global financial stability. When women are fully empowered to reach their economic potential, they invest back into their families and communities, which helps their countries thrive. That is why I signed a National Security Presidential Memorandum to launch the Women's Global Development and Prosperity Initiative (W-GDP), which is the first-ever whole-of-government approach to advancing global women's economic empowerment. The W-GDP Initiative aims to benefit 50 million women across the developing world by 2025. It will help women prosper in the workforce by improving their access to quality education and skills training, funding and supporting women's entrepreneurship and access to capital, and working to address legal, regulatory, and cultural barriers that hinder women from fully and freely participating in the economy.

This month, we express our gratitude for all American women who continue to strengthen our families, communities, and workforce. Our future is brighter because of their contributions.

NOW, THEREFORE, I, DONALD J. TRUMP, President of the United States of America, by virtue of the authority vested in me by the Constitution and the laws of the United States, do hereby proclaim March 2019 as Women's History Month. I call upon all Americans to observe this month and to celebrate International Women's Day on March 8, 2019, with appropriate programs, ceremonies, and activities.

IN WITNESS WHEREOF, I have hereunto set my hand this first day of March, in the year of our Lord two thousand nineteen, and of the Independence of the United States of America the two hundred and forty-third.

[FR Doc. 2019-04206

Filed 3-5-19; 11:15 am]

Billing code 3295-F9-P